DEPARTMENT OF ENERGY

[FE Docket No. 02-57-NG, et al.]

Office Of Fossil Energy

[FE Docket NO. 02-57-NG, et al.]

Avista Corporation, et al.; Orders Granting and Amending Authority To Import and Export Natural Gas

AGENCY: Office of Fossil Energy, DOE.

ACTION: Notice of Orders.

SUMMARY: The Office of Fossil Energy (FE) of the Department of Energy gives notice that during September 2002, it issued Orders granting and amending authority to import and export natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC, on October 7, 2002.
Clifford P. Tomaszewski,
Manager, Natural Gas Regulation, Office of Natural Gas and Petroleum, Import and Export Activities, Office of Fossil Energy.

Appendix—Orders Granting and Amending Import/Export Authorizations
[DOE/FE Authority]
Order No. | Date issued | Importer/Exporter FE Docket No. | Import volume (Bcf) | Export volume (Bcf) | Comments
1806 | 9-04-02 | Avista Corporation, 02-57-NG | 100 |  | Import of natural gas from Canada, beginning on June 26, 2002, and extending through June 25, 2004.
1149-B | 9-12-02 | BC Gas Utility Ltd., 96-07-NG | 8 |  | Amendment to import authority to increase volumes from 6 Bcf per year to 8 Bcf per year, and extend the term of the authority until April 30, 2004.
1808 | 9-16-02 | BC Gas Utility Ltd., 02-60-NG | 35 | 35 | Import and export natural gas from and to Canada, beginning on December 19, 2002, and extending through December 18, 2004.
1750-A | 9-17-02 | Enbridge Gas Distribution Inc. (Formerly The Consumers' Gas Company Ltd.), 01-86-NG |  |  | Name change on blanket import and export authority.
1739-A | 9-17-02 | Aquila, Inc. (Formerly UtiliCorp United Inc.), 01-78-NG |  |  | Name change on blanket import authority.
1809 | 9-19-02 | BP Canada Energy Marketing Corp., 02-62-NG | 500 |  | Import and export a combined total of natural gas from and to Canada, beginning on September 24, 2002, and extending through September 23, 2004.
1810 | 9-20-02 | Cook Inlet Energy Supply L.L.C., 02-61-NG | 400 |  | Import and export a combined total of natural gas from and to Canada and Mexico, beginning on September 20, 2002, and extending through September 19, 2004.
1811 | 9-23-02 | Dominion Exploration Canada Ltd. 02-64-NG | 25 |  | Import of natural gas from Canada, beginning on October 1, 2002, and extending through September 30, 2004.
1809 | 9-25-02 | BP Canada Energy Marketing Corp., 02-62-NG |  |  | Errata Notice. Term of the authority incorrectly stated.
1812 | 9-30-02 | Montana-Dakota Utilities Co., A Division of MDU Resources Group, Inc., 02-63-NG | 10 |  | Import of natural gas from Canada, beginning on December 1, 2002, and extending through November 30, 2004.

[FR Doc. 02-25989 Filed 10-10-02; 8:45 am]

BILLING CODE 6450-01-P